DEPARTMENT OF VETERANS AFFAIRS

Advisory Committee on Gulf War Veterans; Notice of Meeting

The Department of Veterans Affairs (VA) gives notice under Public Law 92-463 (Federal Advisory Committee Act) that the Advisory Committee on Gulf War Veterans will meet on July 15-16, 2009, in the Chandelier Room at the St. Regis Hotel, 923 16th and K Streets, NW., Washington, DC from 8:30 a.m. to 5 p.m. each day. The meeting is open to the public.

The purpose of the Committee is to provide advice and recommendations to the Secretary of Veterans Affairs on issues that are unique to Veterans who served in the Southwest Asia theater of operations during 1990-1991 period of the Gulf War.

On July 15, the Committee will talk with a panel of legislative directors from several Veterans Service Organizations. Each will discuss Gulf War I resolutions that their organizations have adopted, and then briefly address legislative activities they are currently engaged in that specifically relate to Gulf War I Veterans. The Committee will spend the remainder of the day refining the final report to the Secretary of Veterans Affairs. On July 16, the meeting time will be dedicated to deliberating on the Committee's final report.

Public comments will be received on July 15, 2009 from 10:45 to 11:30 a.m. and will be limited to five minutes each. Individuals wishing to speak must register not later than July 13, 2009 by contacting Lelia Jackson and by submitting 1-2 page summaries of their comments for inclusion in the official record. Members of the public may also submit written statements for the Committee's review to the Advisory Committee on Gulf War Veterans, Department of Veterans Affairs, 810 Vermont Avenue, NW., Washington, DC 20420.

Interested persons may also listen in by teleconferencing into the meeting. The toll-free teleconference line will be open daily from 8:30 a.m. until 5 p.m. (Eastern Standard Time). To register for the teleconference, contact Lelia Jackson at (202) 461-5758 or via e-mail at lelia.jackson@va.gov. Any member of the public seeking additional information should contact Laura O'Shea, Designated Federal Officer, at (202) 461-5765.

Dated: June 18, 2009.
By Direction of the Secretary.
E. Philip Riggin,
Committee Management Officer.

[FR Doc. E9-14720 Filed 6-22-09; 8:45 am]

BILLING CODE 8320-01-P